FEDERAL MINE SAFETY AND HEALTH REVIEW COMMISSION

Sunshine Act Meeting

April 3, 2002.

Time and Date: 10 a.m., Thursday, April 11, 2002.

Place: Room 6005, 6th Floor, 1730 K Street, NW., Washington, DC

Status: Open.

Matters To Be Considered: The Commission will consider and act upon the following:

1. Watkins Engineers and Constructors, Docket Nos. WEST 99-280-M, etc. (Issues include whether the judge erred in determining that (a) the Lyons Cement plant falls within the jurisdiction of the Mine Act and (b) Congress' grant of authority to the Secretary of Labor in section 3(h)(1) of the Mine Act to construe the word “milling” is not an unconstitutional delegation of legislative power).

Any person attending an open meeting who requires special accessibility features and/or auxiliary aids, such as sign language interpreters, must inform the Commission in advance of those needs. Subject to 29 CFR 2706.150(a)(3) and 2706.160(d).

Contact Person for More Info: Jean Ellen (202) 653-5629/(202) 708-9300 for TDD Relay/1-800-877-8339 for toll free.

Jean H. Ellen,
Chief Docket Clerk.

[FR Doc. 02-9299 Filed 4-12-02; 12:26 pm]

BILLING CODE 6735-01-M